DEPARTMENT OF COMMERCE

Foreign-Trade Zones Board

[B-58-2018]

Foreign-Trade Zone (FTZ) 44—Trenton, New Jersey; Authorization of Production Activity; International Flavors & Fragrances, Inc. (Flavor and Fragrance Products), Hazlet, New Jersey

On September 6, 2018, International Flavors & Fragrances, Inc. submitted a notification of proposed production activity to the FTZ Board for its facility within FTZ 44B, in Hazlet, New Jersey.

The notification was processed in accordance with the regulations of the FTZ Board (15 CFR part 400), including notice in the Federal Register inviting public comment (83 FR 47328, September 19, 2018). On February 13, 2019, the applicant was notified of the FTZ Board's decision that no further review of the activity is warranted at this time. The production activity described in the notification was authorized, subject to the FTZ Act and the FTZ Board's regulations, including Section 400.14.

Dated: February 14, 2019.
Andrew McGilvray,
Executive Secretary.

[FR Doc. 2019-02983 Filed 2-20-19; 8:45 am]

BILLING CODE 3510-DS-P